NATIONAL AERONAUTICS AND SPACE ADMINISTRATION

[Notice (00-021)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Thursday, March 16, 2000, 8:30 a.m. to 5:00 p.m.; and Friday, March 17, 2000, 8:30 a.m. to 2:00 p.m.

ADDRESSES: National Aeronautics and Space Administration, Room 9H40, 300 E Street, SW, Washington, DC 20546.

FOR FURTHER INFORMATION CONTACT: Ms. Kathy Dakon, Code Z, National Aeronautics and Space Administration, Washington, DC 20546, 202/358-0732.

SUPPLEMENTARY INFORMATION: The meeting will be open to the public up to the seating capacity of the room. The agenda for the meeting is as follows:

—Shuttle Safety Upgrades

—Mars Polar Lander Committee Report

—Faster-Better-Cheaper Report

—Shuttle Wiring Report

—Mars Climate Orbiter Committee Review

—Committee/TaskForce/Working Group Reports

—Discussion of Findings and Recommendations

It is imperative that the meeting be held on these dates to accommodate the scheduling priorities of the key participants. Visitors will be requested to sign a visitor's register.

Dated: February 24, 2000.
Matthew M. Crouch,
Advisory Committee Management Officer, National Aeronautics and Space Administration.

[FR Doc. 00-4811 Filed 2-28-00; 8:45 am]

BILLING CODE 7510-01-P